DEPARTMENT OF EDUCATION

Extension of the Application Deadline Date; Applications for New Awards; Ready To Learn Programming

AGENCY: Office of Elementary and Secondary Education, Department of Education.

ACTION: Notice.

SUMMARY: On March 16, 2020, we published in the Federal Register a notice inviting applications (NIA) for the fiscal year (FY) 2020 Ready to Learn Programming competition, Catalog of Federal Domestic Assistance (CFDA) number 84.295A. The NIA established a deadline date of April 6, 2020 for the notice of intent to apply and of May 15, 2020 for the transmittal of applications. This notice extends the deadline date for the notice of intent to apply until May 15, 2020, the deadline for the transmittal of applications until June 15, 2020, and the deadline for intergovernmental review until August 14, 2020.

DATES:

Deadline for Notice of Intent to Apply: May 15, 2020.

Deadline for Transmittal of Applications: June 15, 2020.

Deadline for Intergovernmental Review: August 14, 2020.

FOR FURTHER INFORMATION CONTACT: Brian Lekander, U.S. Department of Education, 400 Maryland Avenue SW, Room 3E334, Washington, DC 20202. Telephone: (202) 205-5633. Email: readytolearn@ed.gov.

If you use a telecommunications device for the deaf (TDD) or a text telephone (TTY), call the Federal Relay Service (FRS), toll free, at 1-800-877-8339.

SUPPLEMENTARY INFORMATION: On March 16, 2020, we published the NIA for the FY 2020 Ready to Learn Programming competition in the Federal Register (85 FR 14929). We are extending the application deadline date for this competition in order to allow all eligible applicants more time to prepare and submit their applications.

An eligible applicant for the Ready to Learn Programming competition is a public telecommunications entity as defined in the NIA. Additional eligibility requirements are also included in the NIA.

Note: All information in the NIA remains the same, except for the deadline date for the transmittal of applications, the deadline for the notice of intent to apply, and the deadline for intergovernmental review. The NIA can be found at: www.govinfo.gov/content/pkg/FR-2020-03-16/pdf/2020-05357.pdf. Please also note that Grants.gov has relaxed the requirement for applicants to have an active registration in the System for Award Management (SAM) in order to apply for funding during the COVID-19 pandemic. An applicant that does not have an active SAM registration can still register with Grants.gov, but must contact the Grants.gov Support Desk, toll-free, at 1-800-518-4726, in order to take advantage of this flexibility.

Program Authority: Section 4643 of the Elementary and Secondary Education Act of 1965, as amended, 20 U.S.C. 7293.

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Frank T. Brogan,
Assistant Secretary for Elementary and Secondary Education.

[FR Doc. 2020-09799 Filed 5-6-20; 8:45 am]

BILLING CODE 4000-01-P